DEPARTMENT OF DEFENSE

Office of the Secretary

Renewal of Department of Defense Federal Advisory Committees-U.S. Strategic Command Strategic Advisory Group

AGENCY: Department of Defense (DoD).

ACTION: Renewal of Federal advisory committee.

SUMMARY: The DoD is publishing this notice to announce that it is renewing the U.S. Strategic Command Strategic Advisory Group (SAG).

FOR FURTHER INFORMATION CONTACT: Jim Freeman, Advisory Committee Management Officer for the Department of Defense, 703-692-5952.

SUPPLEMENTARY INFORMATION: The SAG's charter is being renewed pursuant to title 10, United States Code (U.S.C.) section 1781a and in accordance with the Federal Advisory Committee Act (FACA) (5 U.S.C., Appendix) and title 41 of the Code of Federal Regulations (CFR) chapter 102-3.50(a). The charter and contact information for the SAG's Designated Federal Officer (DFO) are found at https://www.facadatabase.gov/FACA/apex/FACAPublicAgencyNavigation.

The SAG provides the Secretary of Defense independent advice and recommendations on matters concerning defense policy. Specifically, the SAG will focus on: (a) technical, intelligence, and policy-related matters of interest to the Joint Chiefs of Staff and the U.S. Strategic Command (USSTRATCOM) concerning the development and implementation of the Nation's strategic war plans; (b) enhancements in USSTRATCOM's mission area responsibilities; and (c) other matters related to the Nation's strategic forces, as requested by the Chairman of the Joint Chiefs of Staff or the Commander, USSTRATCOM.

The SAG is composed of no more than 20 members who have distinguished backgrounds in the fields of strategic policy formulation; nuclear weapon design; national command, control, communications, intelligence, and information operations; or other important aspects of the Nation's strategic forces. These members will come from varied backgrounds including prior government or military service, multinational corporations, academia, or other non-government organizations. Individual members will be appointed according to DoD policy and procedures, and serve a term of service of one-to-four years with annual renewals. One member will be appointed as Chair of the SAG. No member, unless approved according to DoD policy and procedures, may serve more than two consecutive terms of service on the SAG, or serve on more than two DoD Federal advisory committees at one time.

Members of the SAG who are not full-time or permanent part-time Federal civilian officers or employees, or active-duty members of the Uniformed Services, will be appointed as experts or consultants pursuant to 5 U.S.C. 3109 to serve as special government employee members. SAG members who are full-time or permanent part-time Federal civilian officers or employees, or active-duty members of the Uniformed Services, will be appointed pursuant to 41 CFR 102-3.130(a) to serve as regular government employee members.

All members of the SAG are appointed to provide advice based on their best judgment without representing any particular point of view and in a manner that is free from conflict of interest. Except for reimbursement of official SAG-related travel and per diem, members serve without compensation.

The public or interested organizations may submit written statements to the SAG membership about the SAG's mission and functions. Written statements may be submitted at any time or in response to the stated agenda of planned meeting of the SAG. All written statements shall be submitted to the DFO for the SAG, and this individual will ensure that the written statements are provided to the membership for their consideration.

Dated: May 22, 2024.
Aaron T. Siegel,
Alternate OSD Federal Register Liaison Officer, Department of Defense.

[FR Doc. 2024-11654 Filed 5-24-24; 8:45 am]

BILLING CODE 6001-FR-P